DEPARTMENT OF ENERGY

Federal Energy Regulatory Commission

Notice of Staff Attendance at North American Electric Reliability Corporation Standards Committee Meeting

The Federal Energy Regulatory Commission hereby gives notice that members of the Commission and/or Commission staff may attend the following meeting:

Standards Committee Teleconference WebEx Meeting:

May 17, 2023 (1:00 p.m.-3:00 p.m. eastern time)

Further information regarding these meetings may be found at: https://www.nerc.com/Pages/Calendar.aspx.

The discussions at the meetings, which are open to the public, may address matters at issue in the following Commission proceeding:

Docket No. RD23-1-000: Extreme Cold Weather Reliability Standards, EOP-011-3 and EOP-012-1

For further information, please contact Chanel Chasanov, 202-502-8569, or chanel.chasanov@ferc.gov.

Dated: May 10, 2023.
Kimberly D. Bose,
Secretary.

[FR Doc. 2023-10384 Filed 5-15-23; 8:45 am]

BILLING CODE 6717-01-P